DEPARTMENT OF AGRICULTURE

Forest Service

Ashley Resource Advisory Committee

AGENCY: Forest Service, USDA.

ACTION: Notice of meeting cancellation.

SUMMARY: The Ashley Resource Advisory Committee (RAC) meeting scheduled on the date below is cancelled. The meeting was scheduled to meet in Vernal, Utah. The RAC is authorized under the Secure Rural Schools and Community Self-Determination Act (the Act) (Pub. L. 110-343) and operates in compliance with the Federal Advisory Committee Act (FACA) (Pub. L. 92-463).

DATES: The cancelled meeting was scheduled for 6:00 p.m. on February 28, 2013.

ADDRESSES: The cancelled meeting was to be held at the Ashley National Forest Supervisor's Office, Conference Room, 355 North Vernal Avenue, Vernal, Utah. Written comments concerning this cancellation may be submitted as described under FOR FURTHER INFORMATION CONTACT.

All comments, including names and addresses when provided, are placed in the record and are available for public inspection and copying. The public may inspect comments received at the Ashley National Forest Supervisor's Office. Please call ahead to facilitate entry into the building to view comments.

FOR FURTHER INFORMATION CONTACT: Louis Haynes, RAC Coordinator, by phone at 435-781-5105 or email at: lhaynes@fs.fed.us.

Individuals who use telecommunication devices for the deaf (TDD) may call the Federal Information Relay Service (FIRS) at 1-800-877-8339 between 8:00 a.m. and 8:00 p.m., Eastern Standard Time, Monday through Friday.

Dated: November 5, 2013.
John R. Erickson,
Forest Supervisor.

[FR Doc. 2013-28189 Filed 11-25-13; 8:45 am]

BILLING CODE 3410-11-M